DEPARTMENT OF TRANSPORTATION

Federal Aviation Administration

Aviation Rulemaking Advisory Committee; Meeting

AGENCY: Federal Aviation Administration (FAA), DOT.

ACTION: Notice of meeting.

SUMMARY: The FAA is issuing this notice to advise the public of a meeting of the Aviation Rulemaking Advisory Committee.

DATES: The meeting will be held on December 6, 2012, at 1:00 p.m.

ADDRESSES: The meeting will take place at the Federal Aviation Administration, 800 Independence Avenue SW., Washington, DC 20591, 8th floor, Conference Room 8 A/B/C.

FOR FURTHER INFORMATION CONTACT: Renee Butner, Federal Aviation Administration, 800 Independence Avenue SW., Washington, DC 20591, telephone (202) 267-5093; fax (202) 267-5075; email Renee.Butner@faa.gov.

SUPPLEMENTARY INFORMATION: Under section 10(a)(2) of the Federal Advisory Committee Act (5 U.S.C. App. 2), we are giving notice of a meeting of the Aviation Rulemaking Advisory Committee taking place on December 6, 2012, at the Federal Aviation Administration, 800 Independence Avenue SW., Washington, DC 20591. The Agenda includes:

1. FACA Overview

2. ARAC Charter and Member Expectations

3. Recommendation Reports

a. Rulemaking Prioritization Working Group (RPWG) Recommendation Report (ARAC)

b. Avionics Systems Harmonization Working Group—Low Speed Alerting, Phase 2 Recommendation Report (TAE)

4. Status Reports From Active Working Groups

a. Airman Testing Standards and Training Working Group (ARAC)

b. Flight Controls Harmonization Working Group (TAE)

c. Airworthiness Assurance Working Group (TAE)

5. New Tasks

a. Engine Bird Ingestions Requirements—Revision of Section 33.76

b. Transport Airplane Performance and Handling Characteristics

6. Status Report from the FAA

a. Process Improvement Working Group (PIWG)

Attendance is open to the interested public but limited to the space available. The FAA will arrange teleconference service for individuals wishing to join in by teleconference if we receive notice by November 29. Arrangements to participate by teleconference can be made by contacting the person listed in the FOR FURTHER INFORMATION CONTACT section. Callers outside the Washington metropolitan area are responsible for paying long-distance charges.

The public must arrange by November 29 to present oral statements at the meeting. The public may present written statements to the Aviation Rulemaking Advisory Committee by providing 25 copies to the Designated Federal Officer, or by bringing the copies to the meeting.

If you are in need of assistance or require a reasonable accommodation for this meeting, please contact the person listed under the heading FOR FURTHER INFORMATION CONTACT.

Issued in Washington, DC, on November 15, 2012.
Lirio Liu,
Designated Federal Officer, Aviation Rulemaking Advisory Committee.

[FR Doc. 2012-28292 Filed 11-20-12; 8:45 am]

BILLING CODE 4910-13-P